FEDERAL COMMUNICATIONS COMMISSION

47 CFR Part 73

[DA 04-72; MB Docket No. 04-12; RM-10834]

Radio Broadcasting Services; Littleville and Russellville, AL

AGENCY: Federal Communications Commission.

ACTION: Proposed rule.

SUMMARY: This document requests comments on a petition for rulemaking filed by Clear Channel Broadcasting Licenses, Inc. requesting the reallotment of Channel 278A from Russellville, Alabama, to Littleville, Alabama, and modification of the license for Station WMXV to specify operation at Littleville. Channel 278A can be allotted to Littleville at coordinates 34-35-44 and 87-40-47. In accordance with the provisions of § 1.420(i) of the Commission's Rules, we shall not accept competing expressions of interest for the use of Channel 278A at Littleville.

DATES: Comments must be filed on or before March 8, 2004, and reply comments on or before March 23, 2004.

ADDRESSES: Federal Communications Commission, 445 Twelfth Street, SW., Washington, DC 20554. In addition to filing comments with the FCC, interested parties should serve the petitioner's counsel, as follows: Marissa G. Repp, Hogan & Hartson L.L.P., 555 Thirteenth Street, NW., Washington, DC 20004-1109.

FOR FURTHER INFORMATION CONTACT: Kathleen Scheuerle, Media Bureau, (202) 418-2180.

SUPPLEMENTARY INFORMATION: This is a synopsis of the Commission's Notice of Proposed Rule Making, MB Docket No. 04-12, adopted January 14, 2004, and released January 20, 2004. The full text of this Commission decision is available for inspection and copying during normal business hours in the FCC's Reference Information Center at Portals II, CY-A257, 445 Twelfth Street, SW, Washington, DC. This document may also be purchased from the Commission's duplicating contractors, Qualex International, Portals II, 445 12th Street, SW, Room CY-B402, Washington, DC 20554, telephone 202-863-2893, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Alabama, is amended by adding Littleville, Channel 278A, and removing Russellville, Channel 249A.¹

¹ In MM Docket No. 01-62, Station WKGL was ordered to specify operation on Channel 278A in lieu of Channel 249A at Russelville, Alabama. See Ardmore, AL et al., 17 FCC Rcd 16332. Station WKGL was granted a license (BMLH-20030415ACF), which implemented this change.

Federal Communications Commission.
John A. Karousos,
Assistant Chief, Audio Division, Media Bureau.

[FR Doc. 04-2833 Filed 2-9-04; 8:45 am]

BILLING CODE 6712-01-P